DEPARTMENT OF TRANSPORTATION

Federal Highway Administration

[FHWA Docket No. FHWA-2016-0005]

Notice of Funding Opportunity for the Advanced Transportation and Congestion Management Technologies Deployment Program

AGENCY: Federal Highway Administration (FHWA), Department of Transportation (DOT).

ACTION: Notice of Funding Opportunity; extension of application submittal date.

SUMMARY: The FHWA is extending the period for submitting applications to the Notice of Funding Opportunity (NOFO) published March 29, 2016, for the advanced transportation and congestion management technologies deployment program. The original due date for applications was June 3, 2016. The extension is based on requests from potential eligible entities for additional time to prepare and submit applications.

DATES: The period for submitting applications to the Notice of Funding Opportunity for the Advanced Transportation and Congestion Management Technologies Deployment (ATCMTD) program published on March 29, 2016 (81 FR 17536), is extended. Applications must be submitted by 3 p.m. ET, on June 24, 2016. Applications must be submitted through http://www.grants.gov.

ADDRESSES: Applications must be submitted through www.grants.gov. Only applicants who comply with all submission requirements described in this notice and submit applications through www.grants.gov will be eligible for award.

FOR FURTHER INFORMATION CONTACT: For further information concerning this notice, please contact the FHWA via email at ATCMTD@dot.gov. For questions about the ATCMTD program, contact Mr. Robert Arnold, Director, FHWA Office of Transportation Management, telephone 202-366-1285 or via email at Robert.Arnold@dot.gov; or Mr. Egan Smith, Managing Director, Intelligent Transportation Systems (ITS) Joint Program Office, telephone 202-366-9224 or via email at Egan.Smith@dot.gov. For legal questions, please contact Mr. Adam Sleeter, Attorney-Advisor, FHWA Office of the Chief Counsel, telephone 202-366-8839 or via email at Adam.Sleeter@dot.gov. Business hours for FHWA are from 8 a.m. to 4:30 p.m., e.t., Monday through Friday, except Federal holidays. A telecommunications device for the deaf (TDD) is available at 202-366-3993. Additionally, the NOFO, answers to questions, requests for clarification, and information about Webinars for further guidance will be posted at http://www.grants.gov/.

SUPPLEMENTARY INFORMATION:

Electronic Access

An electronic copy of this document may be downloaded from the Federal Register Web site at: http://www.federalregister.gov.

SUPPLEMENTARY INFORMATION: On March 29, 2016, at 81 FR 17536, FHWA published in the Federal Register a NOFO soliciting applications for the ATCMTD program for fiscal year 2016 from eligible entities to develop model deployment sites for large scale installation and operation of advanced transportation technologies to improve safety, efficiency, system performance, and infrastructure return on investment. More information about the ATCMTD program, including this notice, amendments to the NOFO, and frequently asked questions, is available at http://www.grants.gov/ under funding opportunity number DTFH6116RA00012.

The original date for submitting applications was June 3, 2016. A number of eligible entities requested additional time to develop and prepare applications for the ATCMTD program. The FHWA recognizes that potential applicants may need additional time to fully prepare applications, therefore, the date for submitting applications for the ATCMTD program is changed from June 3, 2016, to June 24, 2016.

Authority: 23 U.S.C. 503(c)(4).

Issued on: May 23, 2016.
Gregory G. Nadeau,
Administrator, Federal Highway Administration.

[FR Doc. 2016-12785 Filed 5-27-16; 8:45 am]

BILLING CODE 4910-22-P